DEPARTMENT OF AGRICULTURE

Animal and Plant Health Inspection Service

[Docket No. APHIS-2008-0073]

Sirex Woodwasp; Availability of an Environmental Assessment and Finding of No Significant Impact

Correction

In notice document E8-24889 beginning on page 62246 in the issue of Monday, October 20, 2008, make the following corrections:

1. On page 62246, in the third column, in the first full paragraph, in the fourth line, footnote reference “11” should read “1”.

2. On the same page, in the same column, in footnote 11, the Web address “http://www.regulations.gov/fdmspublic/component/main?main=DocketDetail&d=APHIS-2008-” should read “http://www.regulations.gov/fdmspublic/component/main?main=DocketDetail&d=APHIS-2008-0073”.

3. On the same page, in the same column, in the footnotes, footnote reference “11” should read “1”.

[FR Doc. Z8-24889 Filed 10-30-08; 8:45 am]

BILLING CODE 1505-01-D